DEPARTMENT OF VETERANS AFFAIRS

[OMB Control No. 2900-0760]

Agency Information Collection (Certification of United States Paralympics Training Status) Activities Under OMB Review

AGENCY: Office of National Veterans Sports Programs and Special Events, Department of Veterans Affairs.

ACTION: Notice.

SUMMARY: In compliance with the Paperwork Reduction Act (PRA) of 1995 (44 U.S.C. 3501-3521), this notice announces that the Office of National Veterans Sports Programs and Special Events, Department of Veterans Affairs, will submit the collection of information abstracted below to the Office of Management and Budget (OMB) for review and comment. The PRA submission describes the nature of the information collection and its expected cost and burden; it includes the actual data collection instrument.

DATES: Comments must be submitted on or before February 13, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0760” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0760” in any correspondence.

SUPPLEMENTARY INFORMATION:

Title: Certification of United States Paralympics Training Status, VA Forms 0918a, 0918b.

OMB Control Number: 2900-0760.

Type of Review: Revision of a currently approved collection.

Abstract: Section 703 of the Veterans' Benefits Improvement Act of 2008, Public Law 110-389, authorizes the Department of Veterans Affairs (VA) to administer a monthly assistance allowance to a veteran with a service-connected or non service-connected disability if the veteran is competing for a slot on or selected for the United States Paralympics team or is residing at a United States Paralympics training center.

An agency may not conduct or sponsor, and a person is not required to respond to a collection of information unless it displays a currently valid OMB control number. The Federal Register Notice with a 60-day comment period soliciting comments on this collection of information was published on 79 FR 59362, October 1, 2014.

Affected Public: 100.

Estimated Annual Burden: 30 hours.

Estimated Average Burden per Respondent: 25 minutes.

Frequency of Response: Annually.

Estimated Number of Respondents: 100.

Dated: January 9, 2015.
By direction of the Secretary.
Crystal Rennie,
VA Clearance Officer, U.S. Department of Veterans Affairs.

[FR Doc. 2015-00386 Filed 1-13-15; 8:45 am]

BILLING CODE 8320-01-P